DEPARTMENT OF JUSTICE

Notice of Lodging of Proposed Modification To Consent Decree With Dairyland Power Cooperative Under the Clean Air Act

On March 10, 2014, the Department of Justice lodged a proposed modification to a Consent Decree with the United States District Court for the Western District of Wisconsin in the lawsuit entitled United States of America v. Dairyland Power Cooperative, Civ. Action No. 12-cv-462 (W.D. Wis.). The Consent Decree was entered in August 2012, and resolved the United States' claims in Case. No. 12-cv-462, as well as similar claims brought by the Sierra Club in related litigation in Sierra Club v. Dairyland Power Coop., Civ. Action No. 10-cv-303-bbc.

The original Consent Decree resolved Clean Air Act New Source Review and Title V violations at two coal-fired power plants owned and operated by Dairyland Power Cooperative (“DPC”). See 77 FR 39,737 (July 5, 2012). Both plants are located in Wisconsin: The Alma/J.P. Madgett plant in Buffalo County, and the Genoa plant in Vernon County. The proposed modification would extend by eight months the time for Dairyland to comply with the Consent Decree's 30-day rolling average sulfur dioxide emission rate for one of the units at the Alma/J.P. Madgett plant. The extension relates to permitting delays encountered by Dairyland during the construction of Decree-mandated pollution controls. The proposed modification also would require Dairyland to offset additional emissions caused by the delay by reducing overall pollution from the Alma/J.P. Madgett plant beyond the levels required by the original Consent Decree.

The publication of this notice opens a period for public comment on the proposed modification to the Consent Decree. Comments should be addressed to the Assistant Attorney General, Environment and Natural Resources Division, and should refer to United States v. Dairyland Power Cooperative, Civ. Action No. 12-cv-462 (W.D. Wis.), D.J. Ref. 90-5-2-1-10163. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed modification to the Consent Decree may be examined and downloaded at this Justice Department Web site: http://www.usdoj.gov/enrd/Consent_Decrees.html. The Justice Department will provide a paper copy of the proposed modification to the Consent Decree upon written request and payment of reproduction costs. Please mail your request and payment to:

Consent Decree Library, U.S. DOJ—ENRD, P.O. Box 7611, Washington, DC 20044-7611.

Please enclose a check or money order for $5.00 (25 cents per page reproduction cost) payable to the United States Treasury.

Maureen Katz,
Assistant Section Chief, Environmental Enforcement Section, Environment and Natural Resources Division.

[FR Doc. 2014-05718 Filed 3-14-14; 8:45 am]

BILLING CODE 4410-15-P